DEPARTMENT OF COMMERCE

Patent and Trademark Office

Public User ID Badging

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before February 23, 2009.

ADDRESSES: You may submit comments by any of the following methods:

• E-mail: Susan.Fawcett@uspto.gov. Include “0651-0041 comment” in the subject line of the message.

• Fax: 571-273-0112, marked to the attention of Susan K. Fawcett.

• Mail: Susan K. Fawcett, Records Officer, Office of the Chief Information Officer, Customer Information Services Group, Public Information Services Division, United States Patent and Trademark Office, P.O. Box 1450, Alexandria, VA 22313-1450.

• Federal Rulemaking Portal: http://www.regulations.gov.

FOR FURTHER INFORMATION CONTACT: Requests for additional information regarding online access cards or user training should be directed to Diane Lewis, Manager, Public Search Facility, United States Patent and Trademark Office, P.O. Box 1450, Alexandria, VA 22313-1450; by telephone at 571-272-8714; or by electronic mail to Diane.Lewis@uspto.gov.

Requests for additional information regarding security identification badges should be directed to J.R. Garland, Director, Security Office, United States Patent and Trademark Office, P.O. Box 1450, Alexandria, VA 22313-1450; by telephone at 571-272-6247; or by electronic mail to Calib.Garland@uspto.gov.

SUPPLEMENTARY INFORMATION:

I. Abstract

The United States Patent and Trademark Office (USPTO) is required by 35 U.S.C. 41(i)(1) to maintain a Public Search Facility to provide patent and trademark collections for searching and retrieval of information. The Public Search Facility is maintained for public use with paper and electronic search files and trained staff to assist searchers. The USPTO also offers training courses to assist the public with using the advanced electronic search systems available at the facility.

In order to manage the patent and trademark collections that are available to the public, the USPTO issues online access cards to customers who wish to use the electronic search systems at the Public Search Facility. Customers may obtain an online access card by completing the application at the Public Search Facility reference desk and providing proper identification. The plastic online access cards include a bar-coded user number and an expiration date. Users may renew their cards by validating and updating the required information and may obtain a replacement for a lost card by providing proper identification.

Under the authority provided in 41 CFR Part 102-81, the USPTO issues security identification badges to members of the public who wish to use the facilities at the USPTO. Public users may apply for a security badge in person at the USPTO Office of Security by providing the necessary information and presenting a valid form of identification with photograph. The security badges include a color photograph of the user and must be worn at all times while at the USPTO facilities.

The USPTO has recently eliminated the $25 fee for the public training courses offered for the online search systems available at the Public Search Facility. There is still a $120 fee for users who request private instruction. The public training fee is being deleted from this collection. The estimated time for completing the user training registration forms has also been reduced from ten minutes to five minutes due to the removal of the payment information from the forms.

II. Method of Collection

The applications for online access cards and security identification badges are completed on site and handed to a USPTO staff member for issuance. User training registration forms may be mailed, faxed, or hand delivered to the USPTO.

III. Data

OMB Number: 0651-0041.

Form Number(s): PTO-2030, PTO-2224.

Type of Review: Revision of a currently approved collection.

Affected Public: Individuals or households; businesses or other for-profits; and not-for-profit institutions.

Estimated Number of Respondents: 10,500 responses per year.

Estimated Time per Response: The USPTO estimates that it will take the public approximately five to ten minutes (0.08 to 0.17 hours) to complete the information in this collection, including gathering the necessary information, preparing the appropriate form, and submitting the completed request.

Estimated Total Annual Respondent Burden Hours: 1,045 hours per year. Estimated Total Annual Respondent Cost Burden: $177,650 per year. The USPTO estimates that approximately ⅓ of the users responding to this collection are attorneys and ⅔ are paraprofessionals. Using ⅓ of the professional rate of $310 per hour for attorneys in private firms and ⅔ of the paraprofessional rate of $100 per hour, the estimated rate for respondents to this collection is approximately $170 per hour.

Item | Estimated time for response (minutes) | Estimated annual responses | Estimated annual burden hours
Application for Public User ID (Online Access Card) (PTO-2030) | 5 | 2,553 | 204
Issue Online Access Card | 10 | 2,282 | 388
Renew Online Access Card | 5 | 1,126 | 90
Replace Online Access Card | 5 | 165 | 13
User Training Registration Forms | 5 | 74 | 6
Security Identification Badges for Public Users (PTO-2224) | 5 | 1,000 | 80
Renew Security Identification Badges for Public Users | 5 | 3,200 | 256
Replace Security Identification Badge | 5 | 100 | 8
Total |  | 10,500 | 1,045

Estimated Total Annual Non-hour Respondent Cost Burden: $1,982. There are no capital start-up, maintenance, or recordkeeping costs associated with this information collection. However, this collection does have annual (non-hour) costs in the form of fees and postage costs.

There are no application or renewal fees for online access cards or security identification badges. However, there is a $15 fee for issuing a replacement security identification badge. The USPTO estimates that it will reissue approximately 100 security badges annually that have been lost or need to be replaced, for a total of $1,500 per year in replacement fees.

The public training course fee is being deleted from this collection. However, there is a $120 fee for users who request private instruction for the online search systems available at the Public Search Facility. The USPTO estimates that it will receive 4 registrations for individual instruction per year, for a total of $480 in training fees. Therefore, this collection has a total of $1,980 per year in fees in the form of security badge replacement fees and training registration fees.

Users may incur postage costs when submitting a user training registration form to the USPTO by mail. The USPTO expects that approximately 4 of the estimated 74 training forms received per year will be submitted by mail. The USPTO estimates that the average first-class postage cost for a mailed training form will be 42 cents, for a total postage cost of approximately $2 per year for this collection.

The total annual (non-hour) respondent cost burden for this collection in the form of fees and postage costs is estimated to be $1,982 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: December 17, 2008.
Susan K. Fawcett,
Records Officer, USPTO, Office of the Chief Information Officer, Customer Information Services Group, Public Information Services Division.

[FR Doc. E8-30488 Filed 12-22-08; 8:45 am]

BILLING CODE 3510-16-P